DEPARTMENT OF THE INTERIOR

Bureau of Reclamation

[FES-02-36]

Imperial Irrigation District Water Conservation and Transfer Project, California

AGENCY: Bureau of Reclamation, Interior.

ACTION: Notice of availability of a final environmental impact report/environmental impact statement (EIR/EIS).

SUMMARY: The Bureau of Reclamation (Reclamation) has issued an October 2002 Final EIR/EIS on the Imperial Irrigation District (IID) Water Conservation and Transfer Project, which would conserve and transfer the right to use up to 300,000 acre-feet per year of Colorado River water, which IID would otherwise divert for use within IID's water service area in Imperial County, California. The conserved water would be transferred to San Diego County Water Authority (SDCWA), Coachella Valley Water District (CVWD) and/or The Metropolitan Water District of Southern California (MWD).

DATES: No decision will be made on the proposed action until at least 30 days after the United States Environmental Protection Agency's (EPA) Notice of Availability for the Final EIR/EIS has been published in the Federal Register. At this time, it is anticipated the Secretary of the Interior (Secretary) will complete a Record of Decision (ROD) for Reclamation's action prior to December 31, 2002.

ADDRESSES: A copy of the October 2002 Final EIR/EIS is available for public inspection and review at the locations listed in the Supplementary Information section. An Internet version of the document is available on Reclamation's Lower Colorado River Operations Web site at http://www.lc.usbr.gov/lcrivops.html. In addition, hard copy or computer diskette versions of the document are also available upon request from Ms. Janet Steele, Boulder Canyon Operations Office, Bureau of Reclamation, BCOO-4601, PO Box 61470, Boulder City, Nevada 89006, telephone 702-293-8551, faxogram 702-293-8042.

FOR FURTHER INFORMATION CONTACT: Questions regarding the Final EIR/EIS should be directed to Mr. Bruce D. Ellis at Reclamation's Phoenix Area Office (PXAO-1500), PO Box 81169, Phoenix, AZ 85069-1169, telephone 602-216-3854.

SUPPLEMENTARY INFORMATION: The water transfers, which are to remain in effect for up to 75 years, would facilitate efforts to reduce California's diversion of Colorado River water in normal years to its annual 4.4 million acre-feet apportionment. Approval of the Secretary of the Interior (Secretary) will be required to change the point of delivery for the water transferred to SDCWA and MWD water.

IID is seeking a permit from the U.S. Fish and Wildlife Service (FWS) pursuant to section 10(a)(1)(B) of the Endangered Species Act (ESA) that would authorize the incidental take of covered species associated with IID's water conservation and transfer project as well as its ongoing operation and maintenance activities within the IID water service area, the right-of-way of the All American Canal, and the Salton Sea. As a condition of applying for a Section 10 permit, IID is developing a Habitat Conservation Plan (HCP) in consultation with FWS, a draft of which is appended to this Final EIR/EIS.

Both Reclamation's approval of the change in point of delivery of Colorado River water and FWS' potential future issuance of a Section 10 permit are Federal actions that require compliance with the National Environmental Policy Act (NEPA) of 1969, as amended. Reclamation and the FWS issued the Draft EIR/EIS as a means to streamline the NEPA process and concurrently analyze the effects of both Reclamation's action and the FWS permit action. The FWS was a cooperating agency in the development of the Draft EIR/EIS and associated draft HCP, and evaluation of the impacts associated with the proposed issuance of a permit pursuant to Section 10 of the Federal ESA. However, at this time the FWS is not making a decision relative to the Section 10 permit.

This October 2002 Final EIR/EIS has been prepared pursuant to NEPA and the Council on Environmental Quality's Regulations for Implementing the Procedural Provisions of NEPA, and is being issued by Reclamation as the lead agency for its action. The FWS is a cooperating agency. Both agencies intend to use the EIR/EIS document to issue separate RODs. Some of the analyses in this October 2002 Final EIR/EIS document are relevant and may be used at a later date to support the decision for the Section 10 permit. It is anticipated the FWS would issue a supplemental or amended EIS for that decision at that later date.

The terms of IID's water conservation and transfer transactions are set forth in the “Agreement for Transfer of Conserved Water” (IID/SDCWA Transfer Agreement), executed by IID and SDCWA in 1998 (as amended), and a proposed Quantification Settlement Agreement (QSA) to be executed by IID, CVWD, and MWD. The QSA establishes a framework of conservation measures and water transfers within southern California for up to 75 years, and would facilitate California's efforts to reduce its diversions of Colorado River water in normal years to its annual 4.4 million acre-feet apportionment, thus benefitting the entire Colorado River Basin. It would authorize the transfer of up to 200,000 acre-feet to SDCWA pursuant to the IID/SDCWA Transfer Agreement, and provide for the transfer of up to 100,000 acre-feet of water conserved by IID to CVWD and/or MWD.

The Secretary of the Interior (Secretary), pursuant to the Boulder Canyon Project Act of 1928 and Arizona v. California 1964 Supreme Court Decree (376 U.S. 340), proposes to take Federal actions necessary to support California's efforts. One of these actions is execution of an Implementation Agreement (IA) that would commit the Secretary to make Colorado River water deliveries to facilitate implementation of the QSA. The Secretary's execution of the IA is the subject of Reclamation's IA, Inadvertent Overrun and Payback Policy, and Related Federal Actions Final EIS (FES-02-35), which is being filed with EPA concurrently with this October 2002 Final EIR/EIS. Impacts to the Colorado River, that would result from the change in point of delivery of IID's conservation and transfer of up to 300,000 acre-feet of Colorado River water, are incorporated into an analysis of all changes in the point of delivery proposed in the IA and included in the QSA.

IID filed a Notice of Completion with California's State Clearinghouse on January 17, 2002, indicating the Draft EIR/EIS was available for review, pursuant to the California Environmental Quality Act (CEQA). On January 18, 2002, Reclamation filed the Draft EIR/EIS with EPA. IID and Reclamation made the Draft EIR/EIS available for a 90-day public review and comment period, from January 25, 2002 to April 26, 2002. Public hearings were held on April 2, 3, and 4, 2002, in La Quinta, El Centro, and San Diego, California, respectively. A total of 30 speakers provided oral comments at the public hearings. In addition, 300 written comment letters were received.

In June 2002, a Final EIR/EIS was prepared for consideration by the IID Board of Directors (Board) as the lead agency under CEQA. The June 2002 Final EIR/EIS incorporated the Draft EIR/EIS, together with modifications and additions thereto set forth in an Errata, copies of all written and oral comments received on the Draft EIR/EIS, and responses to those comments. On June 28, 2002, the IID Board certified the June 2002 Final EIR/EIS pursuant to the requirements of Section 15090 of the CEQA Guidelines. In order to comply with Council on Environmental Quality regulations implementing NEPA related to the use of errata (40 CFR part 1503.4(c)), Reclamation has prepared this fully integrated, stand alone October 2002 Final EIR/EIS.

The Final EIR/EIS identifies and summarizes the impacts to the Colorado River associated with IID's proposed change in point of delivery of up to 300,000 acre-feet of Colorado River water, under either the IID/SDCWA Transfer Agreement or QSA. It also describes the anticipated impacts associated with the water conservation measures to be undertaken. IID's proposed methods of conserving the water to be transferred, and use of that water, are also described in the Final EIR/EIS.

The Final EIR/EIS includes an analysis of impacts that may be relevant when evaluating the impacts of IID's water transfer and conservation project and operation and maintenance activities associated with its permit request. However, the FWS currently does not anticipate issuing a Section 10 permit concurrent with Reclamation's decision regarding the change in point of delivery of Colorado River water; thus, discussion regarding the HCP and Section 10 permit is not included here.

Copies of the October 2002 Final EIR/EIS are available for public inspection and review at the following locations:

• Department of the Interior, Natural Resources Library, 1849 C St., NW, Washington, DC 20240

• Bureau of Reclamation, Denver Office Library, Building 67, Room 167, Denver Federal Center, 6th and Kipling, Denver, CO 80225

• Bureau of Reclamation, Lower Colorado Regional Office, Nevada Highway and Park St., Boulder City, NV 89006

• Bureau of Reclamation, Yuma Area Office, 7301 Calle Agua Salada, Yuma, AZ 85364-9763

• Brawley Public Library, 400 Main Street, Brawley, CA 92227

• Carlsbad City Library, 1775 Dove Lane, Carlsbad, CA 92009

• El Centro Public Library, 539 State Street, El Centro, CA 92243

• Los Angeles Central Library, 630 W. 5th St., Los Angeles, CA 90071

• Mohave County Library, 1170 Hancock Rd., Bullhead City, AZ 86442

• Palo Verde Valley Library, 125 W. Chanslor Way, Blythe, CA 92225

• Parker Public Library, 1001 S. Navajo Ave., Parker, AZ 85344

• Riverside Central Library, Government Documents Section, 3581 Mission Inn Avenue, Riverside, CA 92501

• San Bernardino County Library, 104 West 4th Street, San Bernardino, CA 92401

• San Diego County Public Library, 201 E. Douglas Street, El Cajon, CA 92020

• Yuma County Library, 350 S. 3rd Ave., Yuma, AZ 85364

No decision will be made regarding the proposed Federal action until at least 30 days after EPA's Notice of Availability for this October 2002 Final EIR/EIS, and the Final IA EIS. It is anticipated the Secretary will complete a ROD for Reclamation's proposed action prior to December 31, 2002. The ROD will state the action that will be implemented and will discuss all factors leading to the decision. Any changes that have been to the proposed water conservation and transfer project will be evaluated prior to decision-making to determine what, if any, additional environmental compliance documentation is needed. These determinations will be addressed in the ROD.

Dated: October 29, 2002.
Willie Taylor,
Director, Office of Environmental Policy and Compliance.

[FR Doc. 02-28507 Filed 11-7-02; 8:45 am]

BILLING CODE 4310-MN-P